DEPARTMENT OF ENERGY

Federal Energy Regulatory Commission

[Project No. 13746-000; Project No. 13750-000; Project No. 13776-000; Project No. 13782-000]

Lock+ Hydro Friends Fund XL; FFP Missouri 4, LLC; Allegheny 4 Hydro, LLC; Three Rivers Hydro, LLC; Notice Announcing Filing Priority for Preliminary Permit Applications

January 28, 2011.

On January 27, 2011, the Commission held a drawing to determine priority between four competing preliminary permit applications with identical filing times. In the event that the Commission concludes that none of the applicants' plans are better adapted than the others to develop, conserve, and utilize in the public interest the water resources of the region at issue, the priority established by this drawing will serve as the tiebreaker. Based on the drawing, the order of priority is as follows:

1. Three Rivers Hydro, LLC—Project No. 13782-000

2. FFP Missouri 4, LLC—Project No. 13750-000

3. Allegheny 4 Hydro, LLC—Project No. 13776-000

4. Lock+ Hydro Friends Fund XL—Project No. 13746-000

Nathaniel J. Davis, Sr.,
Deputy Secretary.

[FR Doc. 2011-2621 Filed 2-4-11; 8:45 am]

BILLING CODE 6717-01-P